DEPARTMENT OF THE INTERIOR

Bureau of Indian Affairs

[223A2100DD/AAKC001030/A0A501010.999900]

San Pasqual Band of Mission Indians; Amended Tribal Liquor Control Ordinance

AGENCY: Bureau of Indian Affairs, Interior.

ACTION: Notice.

SUMMARY: This notice publishes the amended Liquor Control Ordinance of San Pasqual Band of Mission Indians. The San Pasqual Band of Mission Indians amended Liquor Control Ordinance regulates and controls the possession, sale, manufacture, and distribution of alcohol in conformity with the laws of the State of California.

DATES: This ordinance shall become effective March 11, 2022.

FOR FURTHER INFORMATION CONTACT: Mr. Felix Kitto, Deputy Regional Director, Indian Services, Pacific Regional Office, Bureau of Indian Affairs, 2800 Cottage Way, Room W-2820, Sacramento, California 95825, Telephone (916) 978-6000, Fax: (916) 978-6099.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. The San Pasqual Band of Mission Indians adopted the amended Tribal Liquor Control Ordinance on October 1, 2020.

This notice is published in accordance with the authority delegated by the Secretary of the Interior to the Assistant Secretary—Indian Affairs. I certify that the General Council of the San Pasqual Band of Mission Indians duly adopted the amended Tribal Liquor Control Ordinance on October 1, 2020.

Bryan Newland,
Assistant Secretary—Indian Affairs.

San Pasqual Band of Mission Indians' amended Tribal Liquor Control Ordinance shall read as follows:

SAN PASQUAL BAND OF MISSION INDIANS

AMENDED TRIBAL LIQUOR CONTROL ORDINANCE

San Pasqual Band of Mission Indians

Amended Tribal Liquor Control Ordinance

I. Sale and Consumption of Alcoholic Beverages

The General Council of the San Pasqual Band of Mission Indians (hereinafter “General Council”), governing body of the San Pasqual Band (hereinafter “Tribe”), hereby enacts this Ordinance to govern the sale and consumption of alcoholic beverages on Reservation and other tribal trust lands.

II. Preamble

1. Title 18, United States Code, Section 1161, provides Indian tribes with authority to enact ordinances governing the consumption and sale of alcoholic beverages on their Reservations, provided such ordinance is certified by the Secretary of the Interior, published in the Federal Register and such activities are in conformity with state law.

2. Pursuant to Article IV, Section 1 and Article VIII, Section 1(d) of the Constitution and By-Laws of the San Pasqual Band, the General Council is the governing body of the Tribe, with the power to enact ordinances to promote the general welfare and economic advancement of the Tribe and its members and has the powers and responsibilities to establish rules or procedures for the conduct of its affairs.

3. The Tribe is the owner and operator of a gaming facility located on the Reservation known as the Valley View Casino & Hotel (hereinafter “Casino”), at which Class II and Class III Gaming is conducted pursuant to the Tribe's Gaming Ordinance and a Compact executed with the State of California in August 2018, ratified by the California Legislature, which Compact was deemed to have been approved by operation of law on December 13, 2018, and published in the Federal Register on December 27, 2018.

4. The Casino, located on trust land, is an integral and indispensable part of the Tribe's economy, and is intended to provide income to the Tribe and training and employment to its members.

5. The General Council has determined that it is in the best interest of the Tribe to offer alcoholic beverages for sale and consumption in the Casino.

6. The Tribe has leased a nine-acre parcel of tribal trust land to a tribally-owned enterprise for the purpose of developing and operating, among other things, a convenience store.

7. The General Council has determined that it is in the best interest of the Tribe to allow the sale of alcoholic beverages at the convenience store for off-premises consumption.

8. It is the purpose of this Ordinance to set out the terms and conditions under which the sale and consumption of said alcoholic beverages may take place.

III. General Terms

1. The sale and consumption of alcoholic beverages within the Casino, for on-premises consumption only, is hereby authorized.

2. For the purpose of this Ordinance, the term Casino shall mean the Valley View Casino & Hotel, as currently existing or as expanded in the future, or any other casino facility owned by the Tribe and located on the San Pasqual Indian Reservation.

3. The sale of alcoholic beverages at the convenience store, for off-premises consumption only, is hereby authorized.

4. For the purposes of this Ordinance, the term “convenience store” shall mean the convenience store located on an approximately nine-acre parcel of tribal trust land at the intersection of Lake Wohlford and Valley Center Roads leased by the Tribe to the San Pasqual Economic Development Corporation.

5. The sale of said alcoholic beverages authorized by this Ordinance shall be subject to federal excise tax and any fees required by the Federal Bureau of Alcohol, Tobacco & Firearms, and in conformity with all applicable laws of the State of California and applicable federal laws. This includes but is not limited to the following:

a. No person under the age of 21 years shall consume, acquire or have in his or her possession any alcoholic beverage.

b. No person shall sell any alcoholic beverages to any person under the age of 21.

c. No person shall sell alcoholic beverages to a person apparently under the influence of alcohol.

6. Where there may be a question of a person's right to purchase liquor by reason of his or her age, such person shall be required to present anyone of the following types of identification which shows his or her correct age and bears his or her signature and photograph: (1) Driver's license or identification card issued by any state Department of Motor Vehicles; (2) United States Active-Duty Military card; or (3) passport.

7. All liquor sales authorized under this Ordinance shall be on a cash only basis and no credit shall be extended to any person, organization or entity, except that this provision does not prevent the use of major credit or debit cards.

IV. Posting

This Ordinance shall be conspicuously posted within the Casino and the convenience store at all times they are open to the public.

V. Enforcement

a. The San Pasqual Gaming Commission may enforce this Ordinance as against the Casino by implementation of monetary fines not to exceed $500 per violation. Prior to any enforcement action, the Gaming Commission shall provide the alleged offender of this Ordinance with at least three (3) days notice of an opportunity to be heard during a specially called meeting. The decision of the Gaming Commission shall be final.

b. The San Pasqual Business Committee may enforce this Ordinance as against the convenience store by implementation of monetary fines not to exceed $500 per violation. Prior to any enforcement action, the Business Committee shall provide the alleged offender of this Ordinance with at least three (3) days notice of an opportunity to be heard during a specially called meeting. The decision of the Business Committee shall be final.

VI. Severability

If any provision or application of this Ordinance is determined by review to be invalid, such adjudication shall not be held to render ineffectual the remaining portions of this title or to render such provisions inapplicable to other persons or circumstances.

VII. Amendment

This Ordinance may only be amended by a majority vote of the General Council.

VIII. Sovereign Immunity

Nothing in this Ordinance in any way limits, alters, restricts or waives the Tribe's sovereign immunity from unconsented suit or action.

IX. Effective Date

This Ordinance shall become effective following its adoption by the General Council, certification by the Secretary of the Interior and publication in the Federal Register.

[FR Doc. 2022-02696 Filed 2-8-22; 8:45 am]

BILLING CODE 4337-15-P